DEPARTMENT OF TRANSPORTATION

Federal Aviation Administration

[Docket No. FAA-2003-14824; Airspace Docket No. 00-AWA-3]

RIN 2120-AA66

Designation of Oceanic Airspace

AGENCY: Federal Aviation Administration (FAA), DOT.

ACTION: Notice of provision of air traffic services in oceanic airspace.

SUMMARY: By this action the FAA informs airspace users of the type of air traffic control (ATC) service provided in the oceanic airspace controlled by the United States of America (U.S.). This notice is consistent with U.S. obligations under the Convention on International Civil Aviation (Chicago Convention), including, that all Contracting States disseminate information regarding the types of ATC services provided in oceanic airspace under their control.

FOR FURTHER INFORMATION CONTACT: Mr. Terry Brown, Airspace and Rules Division, ATA-400, Office of Air Traffic Airspace Management, Federal Aviation Administration, 800 Independence Avenue, SW., Washington, DC 20591; telephone: (202) 267-8783.

SUPPLEMENTARY INFORMATION:

Background

International Civil Aviation Organization (ICAO)

The Chicago Convention was adopted to promote the safe and orderly development of international civil aviation. The Chicago Convention also created the International Civil Aviation Organization (ICAO), which promulgates uniform international Standards and Recommended Practices (SARPs) aimed at standardizing international civil aviation operational practices and services. Currently, these SARPs are detailed in 18 annexes to the Chicago Convention. Annex 11, Air Traffic Services, and Annex 15, Aeronautical Information Services, are of particular relevance to this notice as they address civil aircraft operations, the establishment of airspace, ATC services in international airspace, and the dissemination of aeronautical information.

Most recently ICAO recommended, and the FAA concurred, that all Contracting States take action to define their oceanic airspace, and inform those interested as to the type of ATC services that would be provided.

By this action the FAA gives notice to those interested parties operating in the oceanic airspace controlled by the U.S. of the type of ATC services provided within the airspace.

ATC Services/Procedures Provided

Pursuant to the Chicago Convention, the U.S. accepted responsibility for providing ATC services over the domestic U.S. and within certain areas of the western half of the North Atlantic, the Gulf of Mexico, the Caribbean, and the North Pacific. In the airspace over the contiguous U.S. and out to 12 nautical miles (NM) from the U.S. shores, domestic ATC separation is applied (with certain limitations) along with additional services (e.g., traffic advisories, bird activity information, weather and chaff information, etc.).

The U.S. also manages airspace areas outside of the domestic U.S. These areas are called Control Areas (CTA) and Flight Information Regions (FIR). Within these CTA/FIR the U.S. applies oceanic separation procedures consistent with ICAO regional procedures.

The FAA may also apply, per Annex 11, domestic ATC procedures within designated Offshore/Control airspace areas provided certain conditions are met. Specifically, these airspace areas must be within signal coverage of domestic radio navigational aid or ATC radar coverage from the 12-NM limit outward to the inner oceanic CTA/FIR boundaries. The Chicago Convention permits the application of domestic ATC procedures even though this is international airspace. However, within the oceanic CTA/FIR area itself, ICAO oceanic ATC procedures are used instead of domestic procedures.

Article of Exemption

Article 3 of the Chicago Convention provides that the Chicago Convention, and its annexes, are not applicable to state-aircraft (which includes military aircraft). However, article 3 requires states, when issuing regulations for their state aircraft, to have due regard for the safety of navigation of civil aircraft. The U.S., as a Contracting State, complies with this provision.

Further, article 12 obligates each Contracting State to adopt measures to ensure that persons operating an aircraft within its territory will comply with that state's air traffic rules, and with Annex 2, Rules of the Air, when operating over the high seas. The U.S. has satisfied this responsibility through Title 14, Code of Federal Regulations (14 CFR) part 91, General Operating and Flight Rules, which requires that operators of aircraft comply with U.S. operating rules when in the U.S. and that U.S.-registered aircraft comply with Annex 2 when over the high seas (see 14 CFR 91.703).

Section 91.703 applies only to civil aircraft. State aircraft operating outside the U.S. are only subject to the “due regard” provisions of article 3 of the Chicago Convention. The SARPs in Annex 11, apply to airspace under the jurisdiction of a Contracting State that has accepted the responsibility of providing air traffic services over the high seas (oceanic airspace), or in airspace of undetermined sovereignty.

U.S. Controlled Oceanic Airspace

The ICAO classes of airspace and associated services provided, as described in Annex 11, to be used by the U.S. within their delegated Oceanic/Arctic CTA/FIR areas are: (1) Class A airspace area (instrument flight rules (IFR) flights only are permitted, all flights are provided with ATC service and are separated from each other); (2) Class E airspace area (IFR and visual flight rules (VFR) flights are permitted, IFR flights are provided with ATC service and are separated from other IFR flights); and (3) Class G airspace area (IFR and VFR flights are permitted, IFR flights are provided with ATC service and are separated from other IFR flights). All flights in these airspace areas would receive traffic information as far as is practical.

Anchorage Oceanic CTA/FIR

Aircraft operating in the Anchorage Oceanic CTA/FIR can expect to receive ATC services associated with the following types of airspace areas and associated altitudes:

Class G—below FL 55;

Class A—FL 55 to FL 600, inclusive except less than 100 NM seaward is Class E below FL 180;

Class E—above FL 600.

Anchorage Arctic CTA/FIR

Aircraft operating in the Anchorage Arctic CTA/FIR can expect to receive ATC services associated with the following types of airspace areas and associated altitudes:

Class G—below FL 230;

Class A—FL 230 to FL 600, inclusive;

Class E—above FL 600.

Houston Oceanic CTA/FIR

Aircraft operating in the Houston Oceanic CTA/FIR can expect to receive ATC services associated with the following types of airspace areas and associated altitudes:

Class G—below FL 15;

Class E—FL 15 to, but not including FL 180;

Class A—FL 180 to FL 600, inclusive;

Class E—above FL 600.

Miami Oceanic CTA/FIR

Aircraft operating in the Miami Oceanic CTA/FIR can expect to receive ATC services associated with the following types of airspace areas and associated altitudes:

Class G—below FL 25;

Class—FL 25 to, but not including FL 180;

Class A—FL 180 to FL 600, inclusive;

Class E—above FL 600.

New York Oceanic CTA/FIR, Excluding That Portion of the Airspace Delegated to NAVCANADA

Aircraft operating in the New York Oceanic CTA/FIR, excluding that portion of the airspace delegated to NAVCANADA can expect to receive ATC services associated with the following types of airspace areas and associated altitudes:

Class G—below FL 55;

Class A—FL 55 to FL 600, inclusive;

Class E—above FL 600.

Oakland Oceanic CTA/FIR

Aircraft operating in the Oakland Oceanic CTA/FIR can expect to receive ATC services associated with the following types of airspace areas and associated altitudes:

Class G—below FL 55;

Class A—FL 55 to FL 600, inclusive except less than 100 NM seaward from the shoreline within controlled airspace, sunrise to sunset, is Class E below FL 200;

Class E—above FL 600.

Oakland/Nauru UTA Airspace Area Delegated to Oakland Center Above FL245

Aircraft operating in the Oakland/Nauru UTA airspace area delegated to Oakland Center above FL 245 can expect to receive ATA services associated with the following types of airspace and associated altitudes:

Class A—above FL 245 to FL 600, inclusive except less than 100 NM seaward from the shoreline within controlled airspace, sunrise to sunset, is Class E below FL 200;

Class E—above FL 600.

Oakland/Tokyo UTA Airspace Area Delegated to Oakland Center at and Above FL 55

Aircraft operating in the Oakland/Tokyo UTA delegated airspace to Oakland Center at and above FL 55 can expect to receive ATC services associated with the following types of airspace and associated altitudes:

Class A—FL 55 to FL 600, inclusive except less than 100 NM seaward from the shoreline within controlled airspace, sunrise to sunset, is Class E below FL 200;

Class E—above FL 600.

San Juan Oceanic CTA/FIR

Aircraft operating in the San Juan Oceanic CTA/FIR can expect to receive ATC services associated with the following types of airspace and associated altitudes:

Class G—below FL 25;

Class E—FL 25 to, but not including FL 180;

Class A—FL 180 to FL 600, inclusive;

Class E—above FL 600.

Accordingly, the U.S. designation of ICAO classes of Oceanic Airspace and associated altitudes, as described in this notice will be reflected on the appropriate aeronautical charts.

Issued in Washington, DC, on March 28, 2003.
Reginald C. Matthews,
Manager, Airspace and Rules Division.

[FR Doc. 03-8139 Filed 4-2-03; 8:45 am]

BILLING CODE 4910-13-P